DEPARTMENT OF THE INTERIOR

National Park Service

[NPS-WASO-NAGPRA-NPS0024474: PPWOCRADN0-PCU00RP14.R50000]

Notice of Intent To Repatriate Cultural Items: Grand Rapids Public Museum, Grand Rapids, MI

AGENCY: National Park Service, Interior.

ACTION: Notice.

SUMMARY: The Grand Rapids Public Museum in consultation with the appropriate Indian Tribes or Native Hawaiian organizations, has determined that the cultural items listed in this notice meet the definition of objects of cultural patrimony. Lineal descendants or representatives of any Indian Tribe or Native Hawaiian organization not identified in this notice that wish to claim these cultural items should submit a written request to the Grand Rapids Public Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Grand Rapids Public Museum at the address in this notice by March 1, 2018.

ADDRESSES: Andrea Melvin, Grand Rapids Public Museum, 272 Pearl Street NW, Grand Rapids, MI 49504, telephone (616) 929-1700, email amelvin@grpm.org.

SUPPLEMENTARY INFORMATION: Notice is here given in accordance with the Native American Graves Protection and Repatriation Act (NAGPRA), 25 U.S.C. 3005, of the intent to repatriate cultural items under the control of The Osage Nation (previously listed as the Osage Tribe) that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, six cultural items were removed from an unknown location in either southern Missouri or Arkansas. The cultural items were acquired by the Grand Rapids Public Museum on September 10, 1974, as a bequest from the Ruth Herrick Estate (Collection T-420 (B24)). The six objects of cultural patrimony comprise the contents of a “Medicine Man's Bundle” and include 1 lot of human and animal teeth, 1 lot of unworked river stones, 1 lot of shell fragments, 1 weathered antler, 1 partial projectile point, and 1 lead bullet.

The objects are not typically associated with burials, but are consistent with material excavated from village locations. Museum records indicate the “Medicine Man's Bundle” was originally bought from a dealer with the understanding they were from an archeological excavation conducted prior to 1965. A determination of Osage cultural affiliation is based on museum records, consultation, geographic location, and archeological information. Based on consultation, the contents of Osage bundles were and are of ongoing cultural importance to the Osage Nation, cannot be alienated by any single individual, and require protection and extremely limited exposure.

Determinations Made by the Grand Rapids Public Museum

Officials of the Grand Rapids Public Museum have determined that:

• Pursuant to 25 U.S.C. 3001(3)(D), the six cultural items described above have ongoing historical, traditional, or cultural importance central to the Native American group or culture itself, rather than property owned by an individual.

• Pursuant to 25 U.S.C. 3001(2), there is a relationship of shared group identity that can be reasonably traced between the objects of cultural patrimony and The Osage Nation (previously listed as the Osage Tribe).

Additional Requestors and Disposition

Lineal descendants or representatives of any Indian Tribe or Native Hawaiian organization not identified in this notice that wish to claim these cultural items should submit a written request with information in support of the claim to Andrea Melvin, Grand Rapids Public Museum, 272 Pearl Street NW, Grand Rapids, MI 49504, telephone (616) 929-1700, email amelvin@grpm.org, by March 1, 2018. After that date, if no additional claimants have come forward, transfer of control of the objects of cultural patrimony to The Osage Nation (previously listed as the Osage Tribe) may proceed.

The Grand Rapids Public Museum is responsible for notifying The Osage Nation (previously listed as the Osage Tribe) that this notice has been published.

Dated: October 13, 2017.
Melanie O'Brien,
Manager, National NAGPRA Program.

Editorial Note: This document was received for publication by the Office of the Federal Register on January 25, 2018.

[FR Doc. 2018-01714 Filed 1-29-18; 8:45 am]

BILLING CODE 4312-52-P